ENVIRONMENTAL PROTECTION AGENCY

[FRL-8741-1]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1591.24; Regulation of Fuel and Fuel Additives (Renewal); in 40 CFR 80.40-80.130; was approved 10/22/2008; OMB Number 2060-0277; expires 10/31/2011.

EPA ICR Number 1230.23; Prevention of Significant Deterioration and Non-Attainment New Source Review (Renewal); in 40 CFR part 51, appendix S, 40 CFR 51.160-51.166, 40 CFR 52.21-52.24; was approved 10/22/2008; OMB Number 2060-0003; expires 10/31/2011.

EPA ICR Number 1446.09; PCBs: Consolidated Reporting and Recordkeeping Requirements; in 40 CFR part 761; was approved 10/29/2008; OMB Number 2070-0112; expires 10/31/2011.

EPA ICR Number 1715.10; TSCA Section 402 and Section 404 Training and Certification, Accreditation and Standards for Lead-Based Paint Activities (Final Rule Addendum); in 40 CFR part 745; was approved 11/03/2008; OMB Number 2070-0155; expires 10/31/2011.

Disapproval

EPA ICR Number 2097.03; The National Primary Drinking Water Regulations; Long Term 2 Enhanced Surface Water Treatment Rule; a request for a short term extension of the 10/31/2008 expiration date was disapproved 11/04/2008.

Dated: November 10, 2008.
John Moses,
Acting Director, Collection Strategies Division.

[FR Doc. E8-27202 Filed 11-14-08; 8:45 am]

BILLING CODE 6560-50-P